DEPARTMENT OF THE TREASURY

Agency Information Collection Activities; Submission for OMB Review; Comment Request; Bureau of Engraving and Printing (BEP)

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before November 4, 2022 to be assured of consideration.

ADDRESSES: Written comments and recommendations for the proposed information collection should be sent within 30 days of publication of this notice to www.reginfo.gov/public/do/PRAMain. Find this particular information collection by selecting “Currently under 30-day Review—Open for Public Comments” or by using the search function.

Copies of the submissions may be obtained from Melody Braswell by emailing PRA@treasury.gov, calling (202) 622-1035, or viewing the entire information collection request at www.reginfo.gov.

SUPPLEMENTARY INFORMATION:

Bureau of Engraving and Printing (BEP)

Title: Bureau of Engraving and Printing Features of Interest Survey for Banknote Equipment Manufacturers.

OMB Control Number: 1520-NEW.

Type of Review: Request for a new OMB Control Number.

Description: The Bureau of Engraving and Printing Feature of Interest Survey for Banknote Equipment Manufacturers (BEMs) is voluntarily completed by BEM companies to inform BEP's efforts to develop features to be included in future Federal Reserve Note (FRN) redesigns. The survey gives BEM companies the opportunity to comment whether proposed features and/or FRN redesigns (a.k.a. Features of Interest) can be detected, validated, transported, and stored by their products. Banknote Equipment Manufacturers (BEMs) are companies that produce any type of equipment that handles banknotes for commercial purposes involving accept/reject decisions for FRNs.

Affected Public: Businesses or other for profits.

Estimated Number of Respondents: 50.

Frequency of Response: 3 per year.

Estimated Total Number of Annual Responses: 150.

Estimated Time per Response: 1 hour.

Estimated Total Annual Burden Hours: 150.

Request for Comments: Comments submitted in response to this notice will be summarized and included in the request for Office of Management and Budget approval. All comments will become a matter of public record. Comments are invited on: (a) whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: 44 U.S.C. 3501 et seq.

Melody Braswell,
Treasury PRA Clearance Officer.

[FR Doc. 2022-21610 Filed 10-4-22; 8:45 am]

BILLING CODE 4840-01-P